DEPARTMENT OF HEALTH AND HUMAN SERVICES

Centers for Disease Control and Prevention

[30Day-09-0469]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National Program of Cancer Registries Cancer Surveillance System (OMB no. 0920-0469 exp. Date 1/31/2010)—Revision—National Center for Chronic Disease Prevention and Health Promotion (NCCDPHP), Centers for Disease Control and Prevention (CDC).

Background and Brief Description

In 1992, Congress passed the Cancer Registries Amendment Act, which established the National Program of Cancer Registries (NPCR). The NPCR provides support for central cancer registries (CCR) that collect, manage and analyze data about cancer cases. The NPCR-funded CCR, which are located in states, the District of Columbia, and U.S. territories, report information to CDC annually through the National Program of Cancer Registries Cancer Surveillance System (NPCR CSS) (OMB No. 0920-0469, exp. 1/31/2010). CDC plans to request OMB approval to continue collecting this information for three years.

The NPCR CSS allows CDC to collect, aggregate, evaluate and disseminate cancer incidence data at the national level, and is the primary source of information for United States Cancer Statistics (USCS), which CDC has published annually since 2002. The NPCR CSS also allows CDC to monitor cancer trends over time, describe geographic variation in cancer incidence throughout the country, and provide incidence data on minority populations and rare cancers. These activities and analyses further support CDC's planning and evaluation efforts for State and national cancer control and prevention. In addition, datasets can be made available for secondary analysis.

Each responding CCR is asked to report a cumulative file containing incidence data from the first diagnosis year for which the cancer registry collected data with the assistance of NPCR funds (e.g., 1995) through 12 months past the close of the most recent diagnosis year (e.g., 2007). Because cancer incidence data are already collected and aggregated at the State level the additional burden of reporting the information to CDC is small. Information is transmitted to CDC electronically once per year.

The Revision request will include changes. First, data definitions will be updated to reflect changes in national standards for cancer diagnosis and coding. In addition, the number of respondents will decrease. Respondents will be 45 State-based CCR, the CCR of the District of Columbia, the CCR of Puerto Rico, and the CCR that aggregates information from 10 flag territories and freely associated States in the Pacific Islands. States that receive sole funding from the National Cancer Institute are not included as respondents. The adjusted number of respondents will result in a reduction in the total estimated burden hours for the NPCR CSS. The estimated burden per response will not change.

There are no costs to respondents except their time. The total estimated annualized burden hours are 96.

Estimated Annualized Burden Hours
Respondents | Number of respondents | Number of responses per respondent | Average burden per response (in hours)
Central Cancer Registries in States, Territories, and the District of Columbia | 48 | 1 | 2

Dated: October 5, 2009.
Maryam I. Daneshvar,
Acting Reports Clearance Officer, Centers for Disease Control and Prevention.

[FR Doc. E9-24520 Filed 10-9-09; 8:45 am]

BILLING CODE 4163-18-P